DEPARTMENT OF ENERGY

Federal Energy Regulatory Commission

Combined Notice of Filings

Take notice that the Commission has received the following Natural Gas Pipeline Rate and Refund Report filings:

Docket Numbers: RP15-279-000.

Applicants: Texas Gas Transmission, LLC.

Description: § 4(d) rate filing per 154.204: Neg Rate Agmt Filing (AEP 34154) to be effective 1/1/2015.

Filed Date: 12/29/14.

Accession Number: 20141229-5025.

Comments Due: 5 p.m. ET 1/12/15.

Docket Numbers: RP15-280-000.

Applicants: Gulf South Pipeline Company, LP.

Description: § 4(d) rate filing per 154.204: Cap Rel Neg Rate Agmt (EnCana 37663 to BP 43578) to be effective 1/1/2015.

Filed Date: 12/29/14.

Accession Number: 20141229-5026.

Comments Due: 5 p.m. ET 1/12/15.

Docket Numbers: RP15-281-000.

Applicants: Gulf South Pipeline Company, LP.

Description: § 4(d) rate filing per 154.204: Cap Rel Neg Rate Agmt (JW 34690 to QWest 43634) to be effective 1/1/2015.

Filed Date: 12/29/14.

Accession Number: 20141229-5027.

Comments Due: 5 p.m. ET 1/12/15.

Docket Numbers: RP15-282-000.

Applicants: Gulf South Pipeline Company, LP.

Description: § 4(d) rate filing per 154.204: Amendment to Neg Rate Agmt (QEP 37657-126) to be effective 12/20/2014.

Filed Date: 12/29/14.

Accession Number: 20141229-5028.

Comments Due: 5 p.m. ET 1/12/15.

Docket Numbers: RP15-283-000.

Applicants: Ozark Gas Transmission, L.L.C.

Description: § 4(d) rate filing per 154.204: Statements of Negotiated Rates Tariff Volume to be effective 2/1/2015.

Filed Date: 12/29/14.

Accession Number: 20141229-5029.

Comments Due: 5 p.m. ET 1/12/15.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 29, 2014.
Nathaniel J. Davis, Sr.,
Deputy Secretary.

[FR Doc. 2014-30823 Filed 1-2-15; 8:45 am]

BILLING CODE 6717-01-P